DEPARTMENT OF COMMERCE

National Oceanic and Atmospheric Administration

RIN 0648-XF127

North Pacific Fishery Management Council; Public Meeting

AGENCY: National Marine Fisheries Service (NMFS), National Oceanic and Atmospheric Administration (NOAA), Commerce.

ACTION: Notice of public meeting.

SUMMARY: The North Pacific Fishery Management Council (Council) Bering Sea Fishery Ecosystem Plan Team (BS FEP) will meet January 19-20, 2017, in Seattle, WA.

DATES: The meeting will be held on Thursday, January 19, 2017 through Friday, January 20, 2017, from 9 a.m. to 5 p.m.

ADDRESSES: The meeting will be held at the Alaska Fishery Science Center NMML Room 2011, 7600 Sand Point Way NE., Building 4, Seattle, WA 98115.

Council address: North Pacific Fishery Management Council, 605 W. 4th Ave., Suite 306, Anchorage, AK 99501-2252; telephone: (907) 271-2809.

FOR FURTHER INFORMATION CONTACT: Diana Evans, Council staff; telephone: (907) 271-2809.

SUPPLEMENTARY INFORMATION:

Agenda

Thursday, January 19, 2017 through Friday, January 20, 2017

The BS FEP agenda will include: (a) FEP tasks, (b) discuss FEP objectives and work products, (c) outreach plan, and (d) potential action modules. The Agenda is subject to change, and the latest version will be posted at http://www.npfmc.org/.

Special Accommodations

These meetings are physically accessible to people with disabilities. Requests for sign language interpretation or other auxiliary aids should be directed to Shannon Gleason at (907) 271-2809 at least 7 working days prior to the meeting date.

Dated: December 28, 2016.
Jeffrey N. Lonergan,
Acting Deputy Director, Office of Sustainable Fisheries, National Marine Fisheries Service.

[FR Doc. 2016-31817 Filed 12-30-16; 8:45 am]

BILLING CODE 3510-22-P